FEDERAL DEPOSIT INSURANCE CORPORATION

12 CFR Part 360

Resolution and Receivership Rules

CFR Correction

In Title 12 of the Code of Federal Regulations, Parts 300 to 499, revised as of January 1, 2009, make the following corrections:

In Appendix C to Part 360, on page 522, in the table, in the first column, add the numbers 1, 2, 3, 4, 1, 2, 3 at the end of entries 17 through 23, respectively, and on page 523, in the same table, in the first column, add the numbers 1 through 6 at the end of entries 28 through 33, respectively.

In Appendix F to Part 360, on page 528, in the table, in the first column, add the numbers 1 and 2 at the end of entries 4 and 5, respectively; and on page 529, in the same table, in the first column, add the numbers 1, 2, 1, 2, 3, 1, 2 at the end of entries 13 through 19, respectively.

[FR Doc. E9-30738 Filed 12-24-09; 8:45 am]

BILLING CODE 1505-01-D